DEPARTMENT OF ENERGY

Federal Energy Regulatory Commission

[Docket No. CP01-82-000]

Williston Basin Interstate Pipeline Company; Notice of Request Under Blanket Authorization

February 20, 2001.

Take notice that on February 8, 2001, Williston Basin Interstate Pipeline Company (Williston Basin), 1250 West Century Avenue, Bismarck, North Dakota 58503, filed in Docket No. CP01-82-000 a request pursuant to Sections 157.205 and 157.211 of the Commission's Regulations under the Natural Gas Act (18 CFR 157.205, 157.211) for authorization to construct and operate a delivery point in Morton County, North Dakota, under Williston Basin's blanket certificate issued in Docket Nos. CP82-487-000, et al., pursuant to Section 7 of the Natural Gas Act, all as more fully set forth in the request that is on file with the Commission and open to public inspection. This filing may be viewed on the web at http://www.ferc.fed.us/online/rims.htm (call 202-208-2222 for assistance).

Williston Basin states it is requesting authorization to construct and operate a new delivery point to provide natural gas service to BP Mandan Refinery (BP). Williston Basin states that the proposed delivery point facilities to be constructed by Williston Basin include a new tap on its 12-inch transmission line, a high pressure turbine meter, two small buildings, associated piping and valves, and a remote terminal unit. In addition, Williston Basin states that BP plans to install approximately 3,300 feet of 6-inch pipeline from its plant facilities to Williston Basin's proposed delivery point. Williston Basin states that the proposed facilities, along with 3,300 feet of 6-inch pipeline to be constructed by BP, are all located entirely on property owned by BP.

Williston Basin states that BP currently receives natural gas service at the northern area of its plant from Montana-Dakota Utilities Co. (Montana-Dakota), a local distribution company, through an existing delivery point (Point ID 02000) located on Williston Basin's system. Williston Basin states that natural gas deliveries at Point ID 02000 averaged approximately 550 Mcf/d during the past 12 months. Williston Basin states that the quantity of gas to be delivered through the new delivery point for the end-use requirements of BP is estimated to be up to 8,000 Mcf/day. The cost of constructing the new delivery point is estimated by Williston Basin to be $55,000.

Williston Basin states it has determined that construction of the proposed facilities is consistent with Section 46 of the General Terms and Conditions of its Tariff. Williston Basin also states that its Tariff does not prohibit the addition of new delivery points. Williston Basin further states that the addition of the proposed facility will have no significant effect on Williston Basin's peak day or annual requirements, and capacity has been determined to exist on the Williston Basin system to serve this natural gas market.

Williston Basin's contact person for this project is Dale R. Lawrence, (713) 215-4540.

Any person or the Commission's staff may, within 45 days after issuance of the instant notice by the Commission, file pursuant to Rule 214 of the Commission's Procedural Rules (18 CFR 385.214) a motion to intervene or notice of intervention and pursuant to Section 157.205 of the Regulations under the Natural Gas (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act. Comments and protests may be filed electronically via the internet in lieu of paper. See, 18 CFR 385.2001(a)(1)(iii) and the instructions on the Commission's web site at http://www.ferc.fed.us/efi/doorbell.htm.

David P. Boergers,
Secretary.

[FR Doc. 01-4575 Filed 2-23-01; 8:45 am]

BILLING CODE 6717-01-M